DEPARTMENT OF HOMELAND SECURITY

Bureau of Customs and Border Protection

FBI Fingerprint Fee

AGENCY: Bureau of Customs and Border Protection, U.S. Department of Homeland Security.

ACTION: General notice.

SUMMARY: This document announces that the fee collected by Customs and Border Protection regarding the submission of fingerprints for those applying for certain positions or requesting various identification cards which necessitate a fingerprint records check, will be raised to a total of $32.49 to offset the fee being charged Customs and Border Protection by the Federal Bureau of Investigation.

EFFECTIVE DATES: November 20, 2007.

FOR FURTHER INFORMATION CONTACT: Customs and Border Protection, Office of International Trade, Broker Compliance Branch, Tel. (202) 863-6543.

SUPPLEMENTARY INFORMATION:

Background

The Federal Bureau of Investigation (FBI) is authorized to charge a fee for processing fingerprint identification records for non-law enforcement employment and licensing purposes. See Note to 28 U.S.C. 534.

Customs and Border Protection (CBP) has traditionally used the FBI fingerprinting services. The Customs Regulations were amended by T.D. 93-18 (58 FR 15770, dated March 24, 1993) to provide that CBP will charge a fee to recover the FBI fingerprinting costs, plus an additional 15% of that amount to cover CBP administrative processing. The authority for CBP to assess such a fee is 31 U.S.C. 9701. The port director advises those required to submit the fee of the correct amount.

The current user fee charged by the FBI is $28.25. Accordingly, in this document, notice is hereby given that the fee charged by CBP will be raised to a total of $32.49: $28.25 representing the FBI portion of the fee, and $4.24 representing the 15% CBP charges to cover administrative processing.

Dated: November 15, 2007.
Daniel Baldwin,
Assistant Commissioner, Office of International Trade.

[FR Doc. E7-22646 Filed 11-19-07; 8:45 am]

BILLING CODE 9111-14-P